DEPARTMENT OF TRANSPORTATION

Federal Railroad Administration

Service Level Environmental Impact Statement for the Texas Oklahoma Passenger Rail Study Corridor, South Texas to Oklahoma City

AGENCY: Federal Railroad Administration (FRA).

ACTION: Notice of Intent To Prepare an Environmental Impact Statement (EIS).

SUMMARY: FRA is issuing this notice to advise the public that it will prepare a Service Level/Tier 1 EIS with the Texas Department of Transportation (TxDOT) to study potential new and/or improved high-speed intercity passenger rail service along an 850-mile corridor extending from Oklahoma City, Oklahoma, to the south Texas cities of Laredo and Brownsville (proposed action). In addition to the Service Level EIS, the Texas Oklahoma Passenger Rail Study (Study) also includes preparation of a service development plan for the corridor for each of three sections of the corridor: Oklahoma City to Dallas/Fort Worth, Dallas/Fort Worth to San Antonio, and San Antonio to south Texas. The Oklahoma Department of Transportation (ODOT) is a partnering state agency in the development of the EIS. The Service Level EIS will evaluate a reasonable range of corridor alternatives and make decisions regarding the preferred corridor, location of train service termini, location of intermediate stops, the level of service, and future planning for projects to implement the service. Alternatives under consideration will include a No Action (No Build) alternative, as well as multiple build alternatives. The build alternatives may include infrastructure improvements in existing or prior rail corridors, the development of one or more new rail corridors, or a combination of both, as well as varying levels of service. FRA is issuing this Notice to solicit public and agency input in the development of the scope of the EIS and to advise the public that FRA and TxDOT will conduct outreach activities regarding the scope of the EIS. To ensure all significant issues are identified and considered, the public is invited to comment on the scope of the EIS, including the purpose and need, alternatives to be considered, impacts to be evaluated, and methodologies to be used in the evaluation.

DATES: Written comments on the scope of the Service Level EIS for the Texas Oklahoma Passenger Rail Study should be provided to TxDOT by April 26, 2013. Comments will also be accepted at public scoping meetings to be held from March 25, 2013, through April 4, 2013, at the times and locations identified below:

• Oklahoma City: Metro Tech Center, 1900 Springlake Drive, Oklahoma City, OK on March 25, 2013 from 2 p.m. through 4 p.m. and from 6 p.m. through 8 p.m.

• Ardmore: Ardmore Train Station, 251 E. Main Street, Ardmore, OK on March 26, 2013 from 6 p.m. through 8 p.m.

• Sherman: Sherman Senior Center, 1500 N. Broughton Street, Sherman, TX on April 2, 2013 from 6 p.m. through 8 p.m.

• Fort Worth: TxDOT Training Offices, 2501 SW Loop 820, Fort Worth, TX on March 28, 2013 from 6 p.m. through 8 p.m.

• Dallas: MSDC Offices, 8828 N. Stemmons Freeway, Dallas, TX on April 3, 2013 from 2 p.m. through 4 p.m. and from 6 p.m. through 8 p.m.

• Belton: Central Texas Council of Governments, 2180 N, Main Street, Belton, TX on April 1, 2013 from 6 p.m. through 8 p.m.

• Waco: Heart of Texas Council of Governments, 1514 S. New Road, Waco, TX on March 25, 2013 from 6 p.m. through 8 p.m.

• Austin: TxDOT Austin Office, Building 7, 7901 N. IH 35, Austin, TX on March 27, 2013 from 2 p.m. through 4 p.m. and from 6 p.m. through 8 p.m.

• Windcrest: Windcrest Civic Center, 9310 Jim Seal Drive, Windcrest, TX on April 1, 2013 from 6 p.m. through 8 p.m.

• Harlingen: Harlingen City Hall, 502 E. Tyler Avenue, Harlingen, TX on April 4, 2013 from 6 p.m. through 8 p.m.

• Corpus Christi: TxDOT Offices, 1701 S. Padre Island Drive, Corpus Christi, TX on April 2, 2013 from 6 p.m. through 8 p.m.

• Laredo: TxDOT Offices, 1817 Bob Bullock Avenue, Laredo, TX on April 3, 2013 from 6 p.m. through 8 p.m.

ADDRESSES: Written comments on the scope of this study should be mailed or emailed to Mr. Mark Werner, Rail Division, Texas Department of Transportation, 125 E. 11th Street, Austin, TX 78701-2483. The email address is provided on the project Web site: www.txokrail.org.

The buildings used for the scoping meetings are accessible to persons with disabilities. Any individual who requires special assistance, such as a sign language interpreter, to participate in the meetings should contact Mr. Mark Werner, Project Manager, Texas Department of Transportation, (512) 486-5137, seven calendar days prior to the meeting.

FOR FURTHER INFORMATION CONTACT: Mr. Mark Werner, Project Manager, TxDOT, 125 E. 11th Street, Austin, TX 78701-2483, (512) 486-5137; or Ms. Catherine Dobbs, Office of Railroad Policy and Development, Federal Railroad Administration, U.S. Department of Transportation, 1200 New Jersey Avenue SE., Washington, DC 20590, (202) 493-6347 . Information and documents regarding the Service Level EIS and environmental process will be made available for the duration of the environmental process at: www.txokrail.org.

SUPPLEMENTARY INFORMATION:

I. Environmental Review Process

The Service Level (Tier 1) EIS will be prepared in accordance with the National Environmental Policy Act (NEPA), the Council on Environmental Quality (CEQ) regulations implementing NEPA and the FRA's Procedures for Considering Environmental Impacts as set forth in 64 FR 28545 dated May 26, 1999 (Environmental Procedures). The Service Level EIS will also address Section 106 of the National Historic Preservation Act, Section 4(f) of the U.S. Department of Transportation Act of 1966 (49 U.S.C. 303) and other applicable Federal and state laws and regulations. The Service Level EIS and any subsequent project (Tier 2) environmental documents will be developed in accordance with CEQ regulations, FRA's Environmental Procedures, and FRA's Update to NEPA Implementing Procedures (78 FR 2713; January 14, 2013).

FRA and TxDOT will use a tiered process, as provided for in 40 CFR 1508.28, in the completion of the environmental review of the Study. “Tiering” is a staged environmental review process applied to environmental reviews for complex projects. The Service Level EIS will address first tier of broad corridor issues and alternatives. Subsequent project-level second tier NEPA evaluations will analyze site-specific projects based on the decisions made at the Service Level. The Service Level NEPA assessment will result in an EIS with the appropriate level of detail for corridor decisions and will address broad overall issues of concern, including but not limited to:

• Confirm the purpose and need for the proposed action.

• Confirm the study area appropriate to assess reasonable alternatives.

• Identify a comprehensive set of goals and objectives for the corridor in conjunction with stakeholders. These goals and objectives will be crafted to allow comprehensive evaluation of all aspects of study alternatives necessary to achieve the goals, including train operations, vehicles, and infrastructure.

• Develop alternative evaluation criteria based on purpose and need, goals and objectives.

• Identify the range of reasonable alternatives to be considered, consistent with the current and planned use of the corridor and the existing services within and adjacent to the study area, as well as considering a no action/no build alternative.

• Identify the general corridor alignment(s) and right-of-way requirements of the reasonable build alternatives.

• Identify, at a corridor planning level, the infrastructure and equipment investment requirements for the reasonable build alternatives.

• Include the consideration of the No- Build Alternative which will be studied as the baseline for comparison with the build alternatives. The No-Build Alternative represents other transportation modes such as auto, air travel, intercity bus, and existing rail and the physical characteristics and capacities as they exist at the time of the Service Level EIS, with planned and funded improvements that will be in place at the time rail improvements would become operational.

• Evaluate and describe, at a corridor planning level, the potential environmental consequences (benefits and adverse effects to the human and natural environment) associated with the reasonable alternatives.

• Establish the timing and sequencing and future NEPA processes for component actions to implement the proposed action.

• Identify preferred alternatives for corridor route alignment within each of the three corridor sections.

Subsequent to this Service Level EIS, project level assessment(s) will address component projects to be implemented within the selected general corridor and where appropriate will incorporate by reference the data and evaluations included in the Service Level EIS. Subsequent evaluations will concentrate on the issues specific to the component of the alternative selected with the Service Level EIS, identify the Project alternatives that meet the purpose and need for each component project, and analyze the specific environmental consequences and measures necessary to mitigate environmental impacts at a site-specific level of detail. This Service Level EIS process will be coordinated with the ongoing preliminary engineering and environmental planning efforts for the Dallas/Fort Worth—Houston passenger rail corridor.

II. Project Background

The 850-mile Texas Oklahoma Passenger Rail Study Corridor extends from Oklahoma City in the north through Dallas, Fort Worth, Austin, and San Antonio to destinations in south Texas including Laredo, Corpus Christi, and Brownsville. Existing passenger rail service includes intercity service on the Heartland Flyer (Oklahoma City to Fort Worth), Texas Eagle (Fort Worth to San Antonio), and Sunset Limited (Los Angeles to New Orleans via San Antonio) operated by Amtrak, and regional/commuter rail service on the Trinity Railway Express (Dallas to Fort Worth) and Capital MetroRail (Austin) operated by Texas operators. Intercity passenger rail between Oklahoma City and San Antonio provides service to cities and communities generally along the Interstate 35 (I-35) corridor. The purpose of Study is to evaluate alternatives to provide higher speed passenger rail service to meet future intercity travel demand and to improve rail facilities, reduce journey times, and improve connections with regional public transit services. These improvements are needed because of the current and forecast population and business growth within the study area that has resulted in growing congestion on highways and rail services along the Interstate 35 (I-35) corridor.

The I-35 corridor, running from Duluth, Minnesota, to Laredo, Texas, is a congressionally identified corridor of national significance and is one of the fastest growing regions in the U.S., running through six of the largest urban areas and nine of the 50 largest cities in the U.S. International truck traffic demand, intercity truck traffic demand, and passenger travel demand compete for highway capacity, creating substantial congestion inside the urban areas through which the highway runs. Projections for the Dallas/Fort Worth to San Antonio portion of the corridor show average speeds along I-35 would drop from 55 to 15 miles per hour by 2035.

Transportation plans for Texas and Oklahoma have identified substantial population growth and population aging within the Study corridor. Texas population is expected to grow by 39% from 2010 to 2035. The population of the Texas Triangle (a region of Texas bounded by Dallas, Houston, and San Antonio) has been growing rapidly over the last several decades, with growth rates in some areas as high as 27%. Texas' population has grown making it the second most populous state in the U.S. with most of the state's population centered in the eastern half of the state, along and east of the I-35 corridor. Oklahoma City is expected to see a population increase of 25% from 2000 to 2035, with intensified population densities in the metropolitan area. Populations within the Study area are also aging, with the percentage of people who are 65 years old or older expected to grow from about 13% to nearly 20% by 2030 in Oklahoma and from 10% to over 17% in Texas, with the aging population expected to rely more heavily on public transportation such as intercity rail. Long range transportation plans in Texas and Oklahoma have identified the need to improve passenger rail services to meet the future demand brought on by these changes in population.

While a common need exists for increased passenger rail service across the 850-mile Study corridor, the corridor has been divided into three sections where the passenger rail needs and opportunities within each section, while interdependent, are distinct. Each section will both be evaluated separately by section and as parts of the overall rail corridor in the Service Level EIS.

The north section between Oklahoma City and Dallas/Fort Worth has existing intercity passenger rail service (Heartland Flyer) with one train in each direction per day, where annual ridership has increased by as much as 10% within the last three years. In this section, over 60% of train passengers would otherwise have taken private vehicles and up to 29% of passengers would otherwise have not made the journey. This passenger rail service is constrained by operation on a busy freight railroad line resulting in delays and schedules with inconvenient layovers for connecting with other rail or transit services in Fort Worth. Rail improvement planning in this section has identified the need for enhanced railroad facilities and better coordination with other connecting passenger rail services to increase the attractiveness of rail as a travel mode choice. Additional needs in this section include direct connection to the City of Dallas and the Dallas/Fort Worth airport (DFW), improved train control systems to increase train speed and allow safe operation of increased numbers of freight and passenger trains within the existing rail corridor, and additional roadway/railroad grade separations to enhance safety where rail and roadways cross.

The central section between Dallas/Fort Worth and San Antonio via Austin has existing intercity passenger rail service in the form of the Texas Eagle, the southernmost portion of daily Amtrak service between Chicago and San Antonio. From Fort Worth, there are daily connections with the Heartland Flyer providing intercity rail service north to Oklahoma City. From San Antonio, there are connections with the Sunset Limited running three times weekly east to New Orleans and west to Los Angeles. Approximately 23% of Amtrak train trips ending in Texas originate within the state.

The central section is characterized by the highest level of intercity travel demand within the state. This is, in part, a result of its linking three of the four largest metropolitan areas within the state, all of which are projected to continue to grow in the future. The central section, via existing I-35, is characterized by substantially higher automobile and truck volumes than any other intercity corridor in the state. These volumes are projected to increase steadily through 2035, by which time traffic volumes are projected to result in freeway speeds as low as 15 miles per hour, contributing to very substantial delays. Air travel between the central section termini (i.e., Dallas/Fort Worth and San Antonio) is characterized by higher passenger volumes than any other intrastate connection. With the exception of the Dallas/Fort Worth-to-Houston connection, air travel demand between Dallas/Fort Worth and San Antonio is more than twice the demand of any other intrastate intercity connection. Enhanced passenger rail service in the central section would serve a clear need for additional transportation capacity and options. It would assist in meeting the strong demand for intercity travel in this highly populated corridor, thereby diverting some of the heavy automobile and truck volumes occurring at present and projected for the future.

The southern section between San Antonio and the cities of Laredo, Corpus Christi, and Brownsville does not have passenger rail services. Instead, Amtrak provides passenger service south of San Antonio by motor coach. The border areas of Brownsville and Laredo have heavy commercial truck traffic on the highways and freight traffic along existing freight railroad lines. The growing congestion in the border cities is affecting the economic viability of the region. Other intercity public transportation, including transportation to other destinations in the U.S. and Mexico, is provided by motor coaches operated by an assortment of Mexican and U.S. operators. A need exists to provide travel mode options to address future passenger travel demand in this area and reduce roadway congestion resulting from the passenger buses combined with commercial truck traffic. Rail service in this section would provide an efficient, safe, equitable, and affordable alternative to highway, bus, or air travel. In this section, cross-border travel demand to Mexican destinations such as Monterrey, a major business hub, results in strong potential passenger rail demand.

III. Scoping and Public Involvement

FRA encourages broad participation in the Service Level EIS process during scoping and subsequent review of the resulting environmental documents. Comments and suggestions are invited from all interested agencies and the public at large to ensure the full range of issues related to the proposed action and all reasonable alternatives are addressed and all significant issues are identified. In particular, FRA is interested in determining whether areas of environmental concern exist where the potential may exist for significant impacts identifiable at a corridor level. Appropriate Federal, State, and local agencies and appropriate railroads are being notified of the proposed Project and comments are being solicited. Public agencies with jurisdiction are requested to advise the FRA and TxDOT of the applicable permit and environmental review requirements of each agency and the scope and content of the environmental information that is germane to the agency's statutory responsibilities in connection with the proposed improvements.

An iterative public involvement/information program will support the process. The program will involve stakeholder workshops, newsletters, a Web site, public open houses, small group and community meetings, and other methods to solicit and incorporate public input throughout the Service Level EIS process. To ensure that the full range of issues relating to the proposed action is addressed, comments and suggestions are invited from all interested parties. Comments and questions concerning the proposed action should be directed to TxDOT or to the FRA at the addresses provided above. Additional information can be obtained by visiting the web site at www.txokrail.org, or sending an email using the link on the Web site.

Issued in Washington, DC, on March 7, 2013.
Corey Hill,
Director, Passenger and Freight Programs.

[FR Doc. 2013-05732 Filed 3-12-13; 8:45 am]

BILLING CODE 4910-06-P